DEPARTMENT OF COMMERCE

National Oceanic and Atmospheric Administration

50 CFR Part 635

RIN 0648-XG955

Atlantic Highly Migratory Species; Amendment 12 to the 2006 Consolidated Atlantic Highly Migratory Species Fishery Management Plan

AGENCY: National Marine Fisheries Service (NMFS), National Oceanic and Atmospheric Administration (NOAA), Commerce.

ACTION: Notice of availability; notice of intent; request for comments.

SUMMARY: NMFS announces the availability of a scoping document and its intent to initiate an amendment to the 2006 Consolidated Highly Migratory Species (HMS) Fishery Management Plan (FMP). Given recent revisions to the National Standard guidelines and recent NMFS policy directives, which aim to improve and streamline fishery management procedures to enhance their utility for managers and the public, NMFS has determined it is necessary to: Reassess current HMS FMP objectives to reflect the changing needs of the HMS fisheries, and potentially adopt revised FMP objectives; review stock status determination criteria (SDC) for internationally-managed HMS and adopt such criteria, rather than continue to apply domestic criteria, which at times differ; review the standardized bycatch reporting methodology (SBRM) for certain HMS fisheries and update, if necessary; consider triggers for initiating allocation reviews for quota-managed HMS stocks and adopt such triggers, if appropriate; and consider revising the publication date of the annual HMS Stock Assessment and Fishery Evaluation (SAFE) Report and adopt such revision. The goal of the scoping document is to examine potential options and modify domestic HMS fishery management measures to be consistent with the national standards guidelines and recent NMFS policy directives, and to request additional information and input from consulting parties and the public prior to development of Amendment 12 to the 2006 Consolidated Atlantic HMS FMP.

DATES: One webinar will be held on October 9, 2019. See SUPPLEMENTARY INFORMATION for webinar date and instructions. NMFS requests receipt of any comments on the scoping document by November 4, 2019.

ADDRESSES: You may submit comments on the scoping document, identified by NOAA-NMFS-2019-0096, by any of the following methods:

• Electronic Submission: Submit all electronic public comments via the Federal e-Rulemaking Portal. Go to www.regulations.gov/#!docketDetail;D=NOAA-NMFS-2019-0096, click the “Comment Now!” icon, complete the required fields, and enter or attach your comments.

• Mail: Submit written comments to Rick Pearson, NMFS/SF1, 263 13th Avenue South, Saint Petersburg, FL 33701.

Instructions: Comments sent by any other method, to any other address or individual, or received after the end of the comment period, may not be considered by NMFS. All comments received are a part of the public record and generally will be posted for public viewing on www.regulations.gov without change. All personal identifying information (e.g., name, address, etc.), confidential business information, or otherwise sensitive information submitted voluntarily by the sender will be publicly accessible. NMFS will accept anonymous comments (enter “N/A” in the required fields if you wish to remain anonymous).

Copies of the scoping document and supporting documents are available from the HMS Management Division website at: https://www.fisheries.noaa.gov/action/amendment-12-2006-consolidated-hms-fishery-management-plan-msa-guidelines-and-national or constituents can contact Rick Pearson by phone at 727-824-5399 or Sarah McLaughlin at 978-281-9260 for hard copies.

FOR FURTHER INFORMATION CONTACT: Rick Pearson at 727-824-5399 or Sarah McLaughlin at 978-281-9260.

SUPPLEMENTARY INFORMATION:

Background

The Magnuson-Stevens Fishery Conservation and Management Act (Magnuson-Stevens Act) requires that any FMP or FMP amendment be consistent with ten National Standards. In 2016, NMFS revised the National Standard guidelines to improve and streamline the guidelines to enhance their utility for managers and the public and provide flexibility in meeting current Magnuson-Stevens Act mandates (81 FR 71858, October 18, 2016). The final rule included a recommendation that FMP objectives should be reassessed on a regular basis to reflect the changing needs of the fishery over time. Although no time frame was prescribed, the National Standard guidelines indicated that NMFS should provide notice to the public of the expected schedule for review.

The National Standard guidelines final rule also indicated that, for stocks managed under international agreement, NMFS may use the SDC defined by the relevant international body (e.g., the International Commission for the Conservation of Atlantic Tunas). Although the National Standard guidelines final rule does not require a review of international SDC, it allows NMFS to consider their appropriateness and applicability.

The Magnuson-Stevens Act requires that any FMP, with respect to any fishery, establish an SBRM to assess the amount and type of bycatch occurring in a fishery. On January 19, 2017, NMFS published a final rule (82 FR 6317) to interpret and provide guidance on this Magnuson-Stevens Act requirement. Specifically, each FMP must identify the required procedure or procedures that constitute the SBRM for a fishery and conduct an analysis that explains how the SBRM meets the purposes described in the Magnuson-Stevens Act. With the changes in the SBRM guidelines, NMFS has determined that it is necessary to consider amending the HMS FMP to update SBRMs for some fisheries and to add fisheries for which SBRMs are not yet described (including tuna greenstick fishery, swordfish buoy gear fishery, and recreational speargun fishery).

On February 23, 2017, NMFS issued Fisheries Allocation Policy Directive 01-119 (https://www.fisheries.noaa.gov/national/laws-and-policies/fisheries-management-policy-directives), which describes a mechanism to ensure that fisheries allocations are periodically evaluated. The policy and directives establish three steps in an allocation review process, with the first step occurring if a review is triggered. Categories of triggers that can be used to initiate an allocation review include: Public interest, time, or indicators. The policy directive also requires the identification of one or more triggers for each fishery with a quota allocation that meets the definition contained in the revised policy directive. The scoping document for Draft Amendment 12 to the 2006 Consolidated Atlantic HMS FMP begins the process for considering allocation triggers for quota-managed HMS.

Finally, the HMS SAFE report is a public document that provides a summary of scientific information concerning the most recent biological condition of stocks, stock complexes, and marine ecosystems, essential fish habitat (EFH), and the social and economic condition of recreational and commercial HMS fishing interests, fishing communities, and the fish processing industries. The Magnuson-Stevens Act specifies that SAFE reports summarize, on a periodic basis, the best scientific information available concerning the past, present, and possible future condition of the stocks, EFH, marine ecosystems, and fisheries being managed under Federal regulation. In 2008, NMFS published a final rule for Amendment 2 to the 2006 Consolidated HMS FMP (73 FR 40657, July 15, 2008) that, among other things, required the publication of the HMS SAFE report by the fall of each year. The scoping document for Draft Amendment 12 begins the process for considering adjusting the publication date of the HMS SAFE report to account for unexpected delays, while remaining compliant with Magnuson-Stevens Act requirements.

In this scoping document, NMFS begins the process of re-assessing HMS FMP objectives, considering international SDCs for HMS managed under international agreement, updating HMS FMP SBRM to include fisheries which are not yet described, considering allocation criteria for quota-managed HMS, and adjusting the timing for publication of the annual HMS SAFE Report.

Request for Comments

NMFS requests additional information and comments from consulting parties and the public on the scoping document. The document includes a summary of the anticipated purpose and need of the FMP amendment and the potential environmental, social, and economic impacts of conservation and management of some potential options. The scoping document is available online at the HMS website: https://www.fisheries.noaa.gov/action/amendment-12-2006-consolidated-hms-fishery-management-plan-msa-guidelines-and-national. One webinar will be held (see Table 1 for webinar time and instructions) to provide the opportunity for public comment. These comments will be used to assist in the development of the upcoming amendment to the 2006 Consolidated Atlantic HMS FMP.

Table 1—Time and Instructions of the Scoping Webinar and Conference Call
Date | Time | Webinar instructions
October 9, 2019 | 2:00-4:00 p.m | Link: https://noaanmfs-events1.webex.com/noaanmfs-events1/onstage/g.php?MTID=ea75b63983365ec291964d9bc1a6fb968. Event Password: NOAA. Dial In: 888-843-6167. Passcode: 3439062.

The public is reminded that NMFS expects participants at public scoping meetings and on conference calls or webinars to conduct themselves appropriately. At the beginning of the webinar and conference call, a representative of NMFS will explain the ground rules (e.g., all comments are to be directed to the Agency; attendees will be called to give their comments in the order in which they registered to speak; each attendee will have an equal amount of time to speak; and attendees should not interrupt one another). A NMFS representative will attempt to structure the webinar and conference call so that all attending members of the public will be able to comment if they so choose, regardless of the controversial nature of the subject matter. If attendees do not respect the ground rules they will be asked to leave the webinar or conference call.

NMFS anticipates that Draft Amendment 12 to the 2006 Consolidated HMS FMP will be available in 2020 and that Final Amendment 12 will be available in 2021.

Dated: August 28, 2019.
Jennifer M. Wallace,
Acting Director, Office of Sustainable Fisheries, National Marine Fisheries Service.

[FR Doc. 2019-18939 Filed 8-30-19; 8:45 am]

BILLING CODE 3510-22-P